FEDERAL MARITIME COMMISSION

[Docket No. FMC-2024-0003]

Informal Public Hearing on the Impact of Current Conditions in the Red Sea and Gulf of Aden Regions

AGENCY: Federal Maritime Commission.

ACTION: Notice of informal public hearing and request for information.

SUMMARY: The Federal Maritime Commission will hold an informal public hearing on February 7, 2024, and continuing February 8, 2024, if needed, to examine how conditions in the Red Sea and Gulf of Aden regions are impacting commercial shipping and global supply chains. At this hearing, the Commission will hear from stakeholders in the supply chain on how operations have been disrupted by attacks on commercial shipping, steps taken in response to these events, and the resulting effects.

DATES: The informal public hearing will be held on February 7, 2024, beginning at 10 a.m. EST, and continuing February 8, 2024, at 10 a.m. EST, if needed. This hearing will be open for public attendance and will be streamed live. Stakeholders who wish to present testimony at the hearing must send a request to testify by email addressed to secretary@fmc.gov and received no later than 5 p.m. EST on January 31, 2024. Submission of written testimony by hearing stakeholders is optional; any such written testimony, and written comments by any other interested persons, must be submitted to the Commission by email at secretary@fmc.gov and received no later than 5 p.m. EST on January 31, 2024.

ADDRESSES: The informal public hearing will be held in the Hearing Room at the Surface Transportation Board, 395 E Street SW, Washington, DC 20423, and will be streamed live. All requests to present testimony at the hearing, and submissions of written testimony and comments for the hearing should be addressed to the Commission and emailed to secretary@fmc.gov.

FOR FURTHER INFORMATION CONTACT: David Eng, Secretary; Phone: (202) 523-5725; Email: secretary@fmc.gov.

SUPPLEMENTARY INFORMATION:

I. Background

The Commission will hold an informal public hearing to examine how conditions in the Red Sea and Gulf of Aden regions are impacting commercial shipping and global supply chains. The hearing will allow stakeholders in the supply chain to communicate with the Commission regarding how operations have been disrupted by attacks on commercial shipping, steps taken in response to these events, and the resulting effects. In addition, the hearing will allow the Commission to gather information and identify any new issues related to these disruptions that might be subject to Commission statutes and regulations.

The hearing will be held on February 7, 2024, beginning at 10 a.m. EST, and continuing February 8, 2024, at 10 a.m. EST, if needed, in the Hearing Room at the Surface Transportation Board. This hearing will be open for public attendance and will also be streamed live. More information about accessing the live stream will be posted on the Commission's web page at www.fmc.gov. If technical issues prevent the Commission from streaming live, the Commission will post a recording of the meeting as soon as possible on the Commission's web page at www.fmc.gov. Any person wishing to attend the hearing in person should report to the Surface Transportation Board with enough time to clear building security procedures before the scheduled start time.

II. Public Participation at the Hearing

How do I participate at the hearing?

This hearing will be open for public attendance and will also be streamed live. Stakeholders who wish to present testimony at the hearing must send a request to testify by email addressed to secretary@fmc.gov and received no later than 5 p.m. EST on January 31, 2024. The request should include the name, company name and job title, street address, email address, phone number of the requester, a summary of how operations have been disrupted by attacks on commercial shipping, steps taken in response to these events, and the resulting effects, as applicable. Testifying stakeholders must appear at the hearing in person; there is no virtual option for presentations.

There may not be sufficient time for all interested stakeholders to present testimony, and the Commission will notify stakeholders selected to testify no later than February 2, 2024. To ensure a diversity of views and perspectives from vessel-operating common carriers and shippers, the Commission may also extend invitations to testify. The panels and stakeholders selected to testify will be announced at a later date on the Commission's web page at www.fmc.gov.

III. Written Testimony and Comment

How do I submit written testimony or a comment for the hearing?

Any person wishing to submit written testimony or a comment for the hearing must submit their testimony or comment to the Commission by email at secretary@fmc.gov and received no later than 5 p.m. EST on January 31, 2024.

What will the Commission do with my written testimony or comment?

All written testimony and comments received will be posted without change, including any personal information provided, at https://www.regulations.gov, and will be included in the record and made available to the public. Please do not include personally identifiable information (such as name, address, or other contact information) or confidential business information that you do not want publicly disclosed.

How do I submit confidential information?

The Commission will provide confidential treatment for identified confidential information to the extent allowed by law. If you would like to request confidential treatment of any written testimony or comment, you must submit the following, by email, to secretary@fmc.gov:

• A transmittal letter requesting confidential treatment that identifies the specific information in the written testimony or comment for which protection is sought and demonstrates that the information is a trade secret or other confidential research, development, or commercial information.

• A confidential copy of your written testimony or comment, consisting of the complete filing with a cover page marked “Confidential-Restricted,” and the confidential material clearly marked on each page.

• A public version of your written testimony or comment with the confidential information excluded. The public version must state “Public Version—confidential materials excluded” on the cover page and on each affected page and must clearly indicate any information withheld.

How can I read written testimony and comments submitted by others?

You may read the written testimony and comments received by the Commission at www.regulations.gov under Docket No. FMC-2024-0003.

Alanna Beck,
Federal Register Alternate Liaison Officer, Federal Maritime Commission.

[FR Doc. 2024-01354 Filed 1-23-24; 8:45 am]

BILLING CODE 6730-02-P